DEPARTMENT OF HEALTH AND HUMAN SERVICES

Centers for Disease Control and Prevention

Advisory Committee to the Director, Centers for Disease Control (ACD, CDC)

In accordance with section 10(a)(2) of the Federal Advisory Committee Act (Pub. L. 92-463), CDC announces the following meeting of the aforementioned committee:

Time and Date: 8 a.m.-3:30 p.m., April 30, 2009.

Place: Centers for Disease Control and Prevention, Tom Harkin Global Communications Center, Kent “Oz” Nelson Auditorium, 1600 Clifton Road, NE., Atlanta, Georgia 30333.

Status: Open to the public, limited only by the space available. The meeting room accommodates approximately 150 people.

Purpose: The committee will provide advice to the Director, CDC on strategic and other broad issues facing CDC.

Matters To Be Discussed: The committee will discuss the final report on the recommendations from the National Biosurveillance Advisory Subcommittee; discuss the mission of the Health Disparities Subcommittee; discuss the recommendations from the Ethics Subcommittee on the “Ethical Aspects of Compulsory Use of Travel Restriction Tools”, and the subcommittee's input on the “Role of Social Determinants Health in Health Reform”; and will discuss CDC's Organizational Review.

Agenda items are subject to change as priorities dictate.

For Further Information Contact: Brad Perkins, M.D., M.B.A., ACD, CDC, 1600 Clifton Road, NE., M/S D-14, Atlanta, Georgia 30333. Telephone 404-639-7000. The Director, Management Analysis and Services office has been delegated the authority to sign Federal Register notices pertaining to announcements of meetings and other committee management activities for both the Centers for Disease Control and Prevention and the Agency for Toxic Substances and Disease Registry.

Dated: April 7, 2009.
Elaine L. Baker,
Director, Management Analysis and Services Office, Centers for Disease Control and Prevention.

[FR Doc. E9-8343 Filed 4-10-09; 8:45 am]

BILLING CODE 4163-18-P